DEPARTMENT OF COMMERCE

National Oceanic and Atmospheric Administration

[Docket No. 221020-0223]

RIN 0648-BL36

Taking and Importing Marine Mammals; Taking Marine Mammals Incidental to the Ocean Wind 1 Offshore Wind Energy Project Offshore of New Jersey; Extension of Public Comment Period

AGENCY: National Marine Fisheries Service (NMFS), National Oceanic and Atmospheric Administration (NOAA), Commerce.

ACTION: Notice; extension of public comment period.

SUMMARY: On October 26, 2022, NMFS published a proposed rule, with a 30-day public comment period ending November 25, 2022, in response to a request by Ocean Wind, LLC (Ocean Wind) for regulations and associated Letter of Authorization (LOA), pursuant to the Marine Mammal Protection Act (MMPA), that would authorize the take of marine mammals, by Level A harassment and Level B harassment, incidental to the Ocean Wind Offshore Wind Energy Project (Ocean Wind 1), offshore of New Jersey. In response to a request, NMFS is announcing an extension of the public comment period by an additional 15 days ending on December 10, 2022.

DATES: The deadline for receipt of comments on the proposed rule published on October 26, 2022 (87 FR 64868), is extended from November 25, 2022, to December 10, 2022.

ADDRESSES: Submit all electronic public comments via the Federal e-Rulemaking Portal. Go to www.regulations.gov and enter NOAA-NMFS-2022-0109 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Kelsey Potlock, Office of Protected Resources, NMFS, (301) 427-8401.

SUPPLEMENTARY INFORMATION:

Background

On October 26, 2022, NMFS published a proposed rulemaking in response to a request from Ocean Wind that NMFS authorize the taking, by Level A harassment and Level B harassment, of marine mammals incidental to the construction of Ocean Wind 1, located off of New Jersey in and around lease area OCS-A-0498. When published, the proposed rule (87 FR 64868; October 26, 2022) allowed for a 30-day public comment period, ending on November 25, 2022. On November 10, 2022, we received a request from the Natural Resource Defense Council (NRDC) for a 15-day extension of the public comment period. NMFS considered the request and the targeted timelines for this project and, in this case, is extending the comment period on the proposed rule for an additional 15 days to provide further opportunity for public comment. This extension provides a total of 45 days for public input on the proposed rule.

All comments and information submitted previously regarding the proposed rule for Ocean Wind 1 will be fully considered during the development of the final rule and LOA, if determined to be promulgated and issued, and do not need to be resubmitted.

Information Solicited

Interested persons may submit information, suggestions, and comments concerning the proposed rulemaking for the Ocean Wind 1 project (see ADDRESSES). NMFS will consider all information, suggestions, and comments from both the initial and extended public comment periods related to the request during the development of final regulations governing the incidental taking of marine mammals by Ocean Wind, if appropriate.

Dated: November 18, 2022.
Kimberly Damon-Randall,
Director, Office of Protected Resources, National Marine Fisheries Service.

[FR Doc. 2022-25771 Filed 11-23-22; 8:45 am]

BILLING CODE 3510-22-P